DEPARTMENT OF LABOR

Employment and Training Administration

[TA-W-85,605]

GE Power Electronics, Inc., GE Energy Management Division a Business Unit of General Electric Company Including Workers Whose Wages Are Reported Under Lineage Power Group, Galion, Ohio; Amended Certification Regarding Eligibility to Apply for Worker Adjustment Assistance

In accordance with Section 223 of the Trade Act of 1974, as amended (“Act”), 19 U.S.C. 2273, the Department of Labor issued a Certification of Eligibility to Apply for Worker Adjustment Assistance on September 9, 2015, applicable to workers of GE Power Electronics, Inc., GE Energy Management Division, A Business Unit of General Electric Company, Galion, Ohio.

At the request of the State of Ohio, the Department reviewed the certification for workers of the subject firm.

New information obtained by the Department revealed that some workers separated from employment had their wages reported under the name Lineage Power Group.

It is the Department's intent to issue a certification that accurately reflects the worker group eligible to apply for Trade Adjustment Assistance. Accordingly, the Department is amending this certification to properly reflect this matter.

The amended certification applicable to TA-W-85,605 is hereby issued as follows:

“All workers of GE Power Electronics, Inc., GE Energy Management Division, a Business Unit of General Electric Company, including workers whose wages are reported under Lineage Power Group, Galion, Ohio, who became totally or partially separated from employment on or after October 17, 2013, through September 9, 2015, and all workers in the group threatened with total or partial separation from employment on September 9, 2015 through September 9, 2017, are eligible to apply for adjustment assistance under Chapter 2 of Title II of the Trade Act of 1974, as amended.”

Signed in Washington, DC, this 3rd day of November, 2016.
Del-Min Amy Chen,
Certifying Officer, Office of Trade Adjustment Assistance.

[FR Doc. 2016-31972 Filed 1-4-17; 8:45 am]

BILLING CODE 4510-FN-P